NATIONAL AERONAUTICS AND SPACE ADMINISTRATION

[Notice (02-049)]

NASA Advisory Council, Earth Systems Science and Applications Advisory Committee; Meeting

AGENCY: National Aeronautics and Space Administration (NASA).

ACTION: Notice of meeting.

SUMMARY: In accordance with the Federal Advisory Committee Act, Public Law 92-463, as amended, the National Aeronautics and Space Administration announces a meeting of the NASA Advisory Council (NAC), Earth Systems Science and Applications Advisory Committee (ESSAAC).

DATES: Tuesday, May 7, 2002, 8:30 a.m. to 5:30 p.m.; and Wednesday, May 8, 2002, 8:30 a.m. to 5:30 p.m.

ADDRESSES: Channel Inn Hotel, 650 Water Street SW, Captain's Room, Washington, DC 20024.

FOR FURTHER INFORMATION CONTACT: Mr. Gregory Williams, Code Y, National Aeronautics and Space Administration, Washington, DC 20546, 202/358-0241.

SUPPLEMENTARY INFORMATION: The meeting will be open to the public up to the seating capacity of the room. The agenda for the meeting is as follows:

—Welcome/Introduction/Logistics

—State of the Enterprise/Discussion

—Remarks from NASA Administrator/Discussion

—Office of Earth Science (OES) Actions to Implement Agency Priorities

—FY 03 Budget

—Earth Observing System Data and Information System (EOSDIS)

—Summary of first day

—Science Roadmaps and Research Strategy Revision

—Center Management Discussion

—Applications Strategy & Next Steps

—Solid Earth Science Working Group Update

—Committee Deliberations/Writing Session

It is imperative that the meeting be held on these dates to accommodate the scheduling priorities of the key participants. Visitors will be requested to sign a visitors' register.

Dated: April 10, 2002.
Sylvia K. Kraemer,
Advisory Committee Management Officer, National Aeronautics and Space Administration.

[FR Doc. 02-9106 Filed 4-15-02; 8:45 am]

BILLING CODE 7510-01-P